ENVIRONMENTAL PROTECTION AGENCY

40 CFR Part 52

[EPA-R09-OAR-2008-0612; FRL-9976-06-Region 9]

Approval of California Air Plan Revisions, Yolo-Solano Air Quality Management District

AGENCY: Environmental Protection Agency (EPA).

ACTION: Final rule.

SUMMARY: The Environmental Protection Agency (EPA) is taking final action to approve a revision to the Yolo-Solano Air Quality Management District (YSAQMD or “District”) portion of the California State Implementation Plan (SIP). This revision concerns the District's demonstration regarding Reasonably Available Control Technology (RACT) requirements for the 1997 8-hour ozone National Ambient Air Quality Standard (NAAQS). The EPA is also taking final action to approve YSAQMD's negative declarations into the SIP for the 1997 8-hour ozone NAAQS. We are approving local SIP revisions under the Clean Air Act (CAA or the Act).

DATES: This rule will be effective on May 7, 2018.

ADDRESSES: The EPA has established a docket for this action under Docket ID No. EPA-R09-OAR-2008-0612. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available through https://www.regulations.gov/, or please contact the person identified in the FOR FURTHER INFORMATION CONTACT section for additional availability information.

FOR FURTHER INFORMATION CONTACT: Stanley Tong, EPA Region IX, (415) 947-4122, tong.stanley@epa.gov.

SUPPLEMENTARY INFORMATION: Throughout this document, “we,” “us” and “our” refer to the EPA.

Table of Contents

I. Proposed Action

II. Public Comments

III. EPA Action

IV. Statutory and Executive Order Reviews

I. Proposed Action

On January 8, 2018 (83 FR 764), the EPA proposed to approve the following documents submitted by the California Air Resources Board (CARB) into the California SIP.

¹ On December 22, 2017, CARB transmitted YSAQMD's public draft version of negative declarations for four Control Techniques Guidelines (CTG) documents along with a request for parallel processing. Under the EPA's parallel processing procedure, the EPA proposes rulemaking action concurrently with the state's proposed rulemaking. If the state's proposed rule is changed, the EPA will evaluate that subsequent change and may publish another notice of proposed rulemaking. If no significant change is made, the EPA will publish a final rulemaking on the rule after responding to any submitted comments. Final rulemaking action by the EPA will occur only after the rule has been fully adopted by California and submitted formally to the EPA for incorporation into the SIP. See 40 CFR part 51, appendix V. The YSAQMD's Governing Board adopted the four negative declarations on January 10, 2018.

Local agency | Document | Adopted | Submitted
YSAQMD | Reasonably Available Control Technology (RACT) State Implementation Plan (SIP) (“2006 RACT SIP”) | 9/13/2006 | 1/31/2007
YSAQMD | Adoption of Four Negative Declarations: EPA 450/2-78-029—Control of Volatile Organic Emissions from Manufacture of Synthesized Pharmaceutical Products; | ¹ 1/10/2018 | 2/22/2018
| EPA 453/R-96-007—Control of Volatile Organic Emissions from Wood Furniture Manufacturing Operations;
| EPA 450/3-84-015—Control of Volatile Organic Compound Emissions from Air Oxidation Processes in Synthetic Organic Chemical Manufacturing Industry; and
| EPA450/4-91-031—Control of Volatile Organic Compound Emissions from Reactor Processes and Distillation Operations in Synthetic Organic Chemical Manufacturing Industry

We had previously proposed to disapprove YSAQMD's 2006 RACT SIP,² but withdrew that proposal ³ because we found that the District has addressed the identified deficiencies by adopting approvable rules that implement RACT and by adopting negative declarations where the District concluded it had no sources subject to RACT recommendations in certain Control Techniques Guidelines (CTG) categories.

² See 73 FR 48166 (August 18, 2008).

³ See 83 FR 764 (January 8, 2018).

Our proposed rule also stated that we would not take final action until CARB submitted the four adopted negative declarations to the EPA as a SIP revision. On January 10, 2018, the YSAQMD held a public hearing and approved the four negative declarations and transmitted the approval package to CARB for adoption and submittal to the EPA. On February 22, 2018, the CARB Executive Officer adopted and submitted to the EPA for approval YSAQMD's negative declarations as a revision to the California SIP, thereby satisfying the prerequisite ⁴ for final EPA action.

⁴ As explained in our January 8, 2018 proposed rulemaking, the EPA is following established procedures for parallel processing that allows us to approve a state provision so long as it was adopted as proposed with no significant changes. YSAQMD adopted the four negative declarations, as proposed in its parallel processing request to the EPA, with no changes.

On March 7, 2018, we found the negative declaration submittal met the completeness criteria in 40 CFR part 52, appendix V. Today, we take final action to approve the 2006 RACT SIP submitted on January 31, 2007, and the four negative declarations submitted on February 22, 2018.

For more background information on the 2006 RACT SIP, four negative declarations and our evaluation of them for compliance with CAA requirements, please see our proposed rule and related technical support documents (TSDs).

II. Public Comments

The EPA's proposed action provided a 30-day public comment period. During this period, we received two anonymous comments.⁵ The commenters raised issues that are outside of the scope of this rulemaking, including wildfire suppression, high-hazard potential dams, maintenance of dams to reduce chances of dam failure, and climate change. The EPA is required to approve a state submittal if the submittal meets all applicable requirements. 42 U.S.C. 7410(k)(3). The commenters did not raise any specific issues germane to the approvability of the YSAQMD's RACT SIP and negative declarations.

⁵ Between 2008-2009, YSAQMD submitted three supplemental documents to partially address issues raised in the EPA's August 18, 2008 proposed action (73 FR 48166). These supplemental documents are filed under “comments” in the docket at https://www.regulations.gov/docket?D=EPA-R09-OAR-2008-0612. Only two comments were received during the January-February 2018 public comment period.

III. EPA Action

No comments were submitted that change our assessment of the SIP submittals as described in our January 8, 2018 proposed action. Therefore, as authorized in section 110(k)(3) of the Act, the EPA is fully approving YSAQMD's 2006 RACT SIP submitted on January 31, 2007, and four negative declarations submitted on February 22, 2018.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 5, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: March 16, 2018.
Alexis Strauss,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(358)(ii)(B) and (c)(501) to read as follows:

§ 52.220 Identification of plan—in part.

* * * * *

(c) * * *

(358) * * *

(ii) * * *

(B) Yolo-Solano Air Quality Management District.

(1) Reasonably Available Control Technology (RACT) State Implementation Plan (SIP), adopted on September 13, 2006.

* * * * *

(501) The following plan revision was submitted on February 22, 2018 by the Governor's designee.

(i) [Reserved]

(ii) Additional materials. (A) Yolo-Solano Air Quality Management District.

(1) Adoption of Four Negative Declarations; Resolution No. 18-01 adopted January 10, 2018.

3. Section 52.222 is amended by adding paragraph (a)(14) to read as follows:

§ 52.222 Negative declarations.

(a) * * *

(14) Yolo-Solano Air Quality Management District.

(i) The following negative declarations are for the 1997 8-hour ozone NAAQS.

CTG source category | Negative declaration CTG reference document | Submitted 1/31/07, adopted 9/13/06 | Submitted 2/22/18, adopted 1/10/18
Aerospace | EPA-453/R-97-004 Aerospace Manufacturing and Rework Operations | X |
Ships | 61 FR 44050 Shipbuilding and Ship Repair | X |
Metal Coil Container and Closure | EPA-450/2-77-008 Surface Coating of Cans, Coils, Paper, Fabrics, Automobiles, and Light-Duty Trucks | X |
Magnetic Wire | EPA-450/2-77-033 Surface Coating of Insulation of Magnet Wire | X |
Natural Gas/Gasoline Processing Plants, Equipment Leaks | EPA-450/2-83-007 Equipment Leaks from Natural Gas/Gasoline Processing Plants | X |
Refineries | EPA-450/2-77-025 Refinery Vacuum Producing Systems, Wastewater Separators, and Process Unit Turnarounds | X |
| EPA-450/2-78-036 VOC Leaks from Petroleum Refinery Equipment | X |
Paper and Fabric | EPA-450/2-77-008 Surface Coating of Cans, Coils, Paper, Fabrics, Automobiles, and Light-Duty Trucks | X |
Dry Cleaning | EPA-450/3-82-009 Large Petroleum Dry Cleaners | X |
Rubber Tires | EPA-450/2-78-030 Manufacture of Pneumatic Rubber Tires | X |
Large Appliances, Surface Coating | EPA-450/2-77-034 Surface Coating of Large Appliances | X |
Wood Coating | EPA-450/2-78-032 Factory Surface of Flat Wood Paneling | X |
Polyester Resin | EPA-450/3-83-006 Fugitive Emissions from Synthetic Organic Chemical Polymer and Resin Manufacturing Equipment | X |
| EPA-450/3-83-008 Manufacture of High-Density Polyethylene, Polypropylene, and Polystyrene Resins | X |
Pharmaceutical Products | EPA-450/2-78-029—Control of Volatile Organic Emissions from Manufacture of Synthesized Pharmaceutical Products |  | X
Wood Furniture Coating | EPA-453/R-96-007—Control of Volatile Organic Emissions from Wood Furniture Manufacturing Operations |  | X
Synthetic Organic Chemical | EPA-450/3-84-015—Control of Volatile Organic Compound Emissions from Air Oxidation Processes in Synthetic Organic Chemical Manufacturing Industry |  | X
| EPA-450/4-91-031—Control of Volatile Organic Compound Emissions from Reactor Processes and Distillation Operations in Synthetic Organic Chemical Manufacturing Industry |  | X

(ii) [Reserved]

* * * * *

[FR Doc. 2018-06795 Filed 4-5-18; 8:45 am]

BILLING CODE 6560-50-P